DEPARTMENT OF ENERGY

Federal Energy Regulatory Commission

Combined Notice of Filings #2

Take notice that the Commission received the following electric rate filings:

Docket Numbers: ER16-154-000.

Applicants: PacifiCorp.

Description: Tariff Cancellation: Termination of Lehi Highland Sub Trans Line Upgrade Construction Agreement to be effective 1/17/2016.

Filed Date: 10/28/15.

Accession Number: 20151028-5244.

Comments Due: 5 p.m. ET 11/18/15.

Docket Numbers: ER16-155-000.

Applicants: Wabash Valley Power Association, Inc.

Description: Section 205(d) Rate Filing: Amendments to Formulary Rate Tariff for Service to Members—Clone to be effective 1/1/2016.

Filed Date: 10/28/15.

Accession Number: 20151028-5292.

Comments Due: 5 p.m. ET 11/18/15.

Docket Numbers: ER16-156-000.

Applicants: Southwest Power Pool, Inc.

Description: Section 205(d) Rate Filing: 607R25 Westar Energy, Inc. NITSA NOA to be effective 10/1/2015.

Filed Date: 10/28/15.

Accession Number: 20151028-5321.

Comments Due: 5 p.m. ET 11/18/15.

Docket Numbers: ER16-157-000.

Applicants: Midcontinent Independent System Operator, Inc.

Description: Section 205(d) Rate Filing: 2015-10-28_SA 2813 Notice of Termination J293 GIA to be effective 1/17/2016.

Filed Date: 10/28/15.

Accession Number: 20151028-5325.

Comments Due: 5 p.m. ET 11/18/15.

Take notice that the Commission received the following land acquisition reports:

Docket Numbers: LA15-3-000.

Applicants: Duquesne Light Company, Duquesne Power, LLC.

Description: Quarterly Land Acquisition Report of the Duquesne MBR Sellers.

Filed Date: 10/28/15.

Accession Number: 20151028-5227.

Comments Due: 5 p.m. ET 11/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2015.
Nathaniel J. Davis, Sr.,
Deputy Secretary.

[FR Doc. 2015-27976 Filed 11-2-15; 8:45 am]

BILLING CODE 6717-01-P